DEPARTMENT OF ENERGY

Federal Energy Regulatory Commission

Combined Notice of Filings #1

Take notice that the Commission received the following electric corporate filings:

Docket Numbers: EC18-78-000.

Applicants: Florida Power & Light Company.

Description: Supplement to July 5, 2018 Response to June 5, 2018 Deficiency Letter of Florida Power & Light Company.

Filed Date: 7/26/18.

Accession Number: 20180726-5208.

Comments Due: 5 p.m. ET 8/16/18.

Take notice that the Commission received the following exempt wholesale generator filings:

Docket Numbers: EG18-115-000.

Applicants: MHG Solar LLC.

Description: Self-Certification of EG or FC of MHG Solar LLC.

Filed Date: 7/30/18.

Accession Number: 20180730-5059.

Comments Due: 5 p.m. ET 8/20/18.

Take notice that the Commission received the following electric rate filings:

Docket Numbers: ER10-3050-003; ER14-2871-012; ER16-182-007; ER17-1785-002; ER16-1130-005; ER16-1131-005; ER16-1132-005; ER17-47-004; ER17-1574-002; ER10-3251-012; ER14-2382-012; ER15-621-011; ER15-622-011; ER15-463-011; ER16-72-007; ER18-2013-001; ER15-110-011; ER17-48-004; ER13-1586-013; ER10-1992-019; ER16-902-003; ER18-47-002; ER16-1129-005; ER10-3232-009; ER10-3053-003.

Applicants: Cabazon Wind Partners, LLC, Cameron Ridge, LLC, Cameron Ridge II, LLC, Coachella Wind, LLC, DifWind Farms Limited I, DifWind Farms Limited II, DifWind Farms Limited V, DifWind Farms LTD VI, EUI Affiliate LLC, Oak Creek Wind Power, LLC, ON Wind Energy LLC, Pacific Crest Power, LLC, Ridgetop Energy, LLC, San Gorgonio Westwinds II, LLC, San Gorgonio Westwinds II—Windustries, Terra-Gen Dixie Valley, LLC, Terra-Gen Energy Services, LLC, Terra-Gen Mojave Windfarms, LLC, TGP Energy Management, LLC, Victory Garden Phase IV, LLC, Voyager Wind I, LLC, Voyager Wind II, LLC, VPI Enterprises, LLC, Wheelabrator Shasta Energy Company Inc., Whitewater Hill Wind Partners, LLC.

Description: Notice of Non-Material Change in Status of Cabazon Wind Partners, LLC, et al.

Filed Date: 7/27/18.

Accession Number: 20180727-5230.

Comments Due: 5 p.m. ET 8/17/18.

Docket Numbers: ER18-2089-000.

Applicants: GenOn Holdco 10, LLC.

Description: § 205(d) Rate Filing: normal filing to be effective 7/30/2018.

Filed Date: 7/27/18.

Accession Number: 20180727-5175.

Comments Due: 5 p.m. ET 8/17/18.

Docket Numbers: ER18-2090-000.

Applicants: PJM Interconnection, L.L.C.

Description: § 205(d) Rate Filing: Revisions to Att. Q re FTR Credit Requirement to be effective 9/3/2018.

Filed Date: 7/27/18.

Accession Number: 20180727-5193.

Comments Due: 5 p.m. ET 8/17/18.

Docket Numbers: ER18-2091-000.

Applicants: Titan Solar, LLC.

Description: Baseline eTariff Filing: Titan Solar, LLC's Application for Market-Based Rates to be effective 10/1/2018.

Filed Date: 7/27/18.

Accession Number: 20180727-5197.

Comments Due: 5 p.m. ET 8/17/18.

Docket Numbers: ER18-2092-000.

Applicants: Dynegy Killen, LLC.

Description: Tariff Cancellation: Notice of Cancellation of Reactive Tariffs and Tariff IDs to be effective 7/30/2018.

Filed Date: 7/30/18.

Accession Number: 20180730-5001.

Comments Due: 5 p.m. ET 8/20/18.

Docket Numbers: ER18-2093-000.

Applicants: Dynegy Stuart, LLC.

Description: Tariff Cancellation: Notice of Cancellation of Reactive Tariffs and Tariff IDs to be effective 7/30/2018.

Filed Date: 7/30/18.

Accession Number: 20180730-5002.

Comments Due: 5 p.m. ET 8/20/18.

Docket Numbers: ER18-2094-000.

Applicants: Dynegy Stuart, LLC.

Description: Tariff Cancellation: Notice of Cancellation of MBR Tariffs and Tariff IDs to be effective 7/31/2018.

Filed Date: 7/30/18.

Accession Number: 20180730-5004.

Comments Due: 5 p.m. ET 8/20/18.

Docket Numbers: ER18-2095-000.

Applicants: Dynegy Killen, LLC.

Description: Tariff Cancellation: Notice of Cancellation of MBR Tariffs and Tariff IDs to be effective 7/31/2018.

Filed Date: 7/30/18.

Accession Number: 20180730-5005.

Comments Due: 5 p.m. ET 8/20/18.

Docket Numbers: ER18-2096-000.

Applicants: Duke Energy Carolinas, LLC.

Description: § 205(d) Rate Filing: DEC-NCMPA No. 1 (SA 212) Amendment to be effective 8/1/2018.

Filed Date: 7/30/18.

Accession Number: 20180730-5071.

Comments Due: 5 p.m. ET 8/20/18.

Docket Numbers: ER18-2097-000.

Applicants: PJM Interconnection, L.L.C.

Description: § 205(d) Rate Filing: Original Interim ISA SA No. 5142; Queue No. AD1-087 to be effective6/29/2018.

Filed Date: 7/30/18.

Accession Number: 20180730-5082.

Comments Due: 5 p.m. ET 8/20/18.

Docket Numbers: ER18-2098-000.

Applicants: Midcontinent Independent System Operator, Inc., Great River Energy.

Description: § 205(d) Rate Filing: 2018-07-30_Filing to amend RS 28 GRE JPZ Revenue Allocation Agreement to be effective 10/1/2018.

Filed Date: 7/30/18.

Accession Number: 20180730-5112.

Comments Due: 5 p.m. ET 8/20/18.

Docket Numbers: ER18-2099-000.

Applicants: PJM Interconnection, L.L.C.

Description: Tariff Cancellation: Notice of Cancellation of WMPA SA No. 4903; Queue No. AC1-012 to be effective 7/13/2018.

Filed Date: 7/30/18.

Accession Number: 20180730-5146.

Comments Due: 5 p.m. ET 8/20/18.

Docket Numbers: ER18-2100-000.

Applicants: Midcontinent Independent System Operator, Inc., MidAmerican Energy Company.

Description: § 205(d) Rate Filing: 2018-07-30_SA 1976 MEC-ITC Midwest 4th Rev TIA to be effective8/1/2018.

Filed Date: 7/30/18.

Accession Number: 20180730-5147.

Comments Due: 5 p.m. ET 8/20/18.

Docket Numbers: ER18-2101-000.

Applicants: Alabama Power Company.

Description: § 205(d) Rate Filing: SWE (PowerSouth Territorial) NITSA 2018 Rollover Filing to be effective 7/1/2018.

Filed Date: 7/30/18.

Accession Number: 20180730-5167.

Comments Due: 5 p.m. ET 8/20/18.

Docket Numbers: ER18-2102-000.

Applicants: PJM Interconnection, L.L.C.

Description: Compliance filing: Compliance filing to Commission's5/31/2018 order in EL05-121 Settlement to be effective 1/1/2016.

Filed Date: 7/30/18.

Accession Number: 20180730-5168.

Comments Due: 5 p.m. ET 8/20/18.

Docket Numbers: ER18-2102-001.

Applicants: PJM Interconnection, L.L.C.

Description: Compliance filing: Compliance filing to Commission's5/31/2018 order in EL05-121 Settlement Part 2 to be effective 1/1/2018.

Filed Date: 7/30/18.

Accession Number: 20180730-5174.

Comments Due: 5 p.m. ET 8/20/18.

Docket Numbers: ER18-2103-000.

Applicants: Liberty Utilities (Granite State Electric) Corp.

Description: § 205(d) Rate Filing: Borderline Sales Rate Sheet Update 2018 to be effective 8/1/2018.

Filed Date: 7/30/18.

Accession Number: 20180730-5189.

Comments Due: 5 p.m. ET 8/20/18.

Take notice that the Commission received the following public utility holding company filings:

Docket Numbers: PH18-10-000.

Applicants: Unison Energy, LLC, AIM Universal Holdings, LLC, Hunt Companies, Inc.

Description: Unison Energy, LLC, et. al. submits FERC 65-A Exemption Notification.

Filed Date: 7/30/18.

Accession Number: 20180730-5136.

Comments Due: 5 p.m. ET 8/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2018.
Nathaniel J. Davis, Sr.,
Deputy Secretary.

[FR Doc. 2018-16631 Filed 8-2-18; 8:45 am]

BILLING CODE 6717-01-P